DEPARTMENT OF COMMERCE

Foreign-Trade Zones Board

[B-60-2021]

Foreign-Trade Zone (FTZ) 171—Liberty County, Texas, Authorization of Production Activity CCZJV-GPX (Pipe Spools and Valves), Baytown, Texas

On August 24, 2021, CCZJV-GPX submitted a notification of proposed production activity to the FTZ Board for its facility within FTZ 171, in Baytown, Texas.

The notification was processed in accordance with the regulations of the FTZ Board (15 CFR part 400), including notice in the Federal Register inviting public comment (86 FR 49509, September 3, 2021). On December 22, 2021, the applicant was notified of the FTZ Board's decision that no further review of the activity is warranted at this time. The production activity described in the notification was authorized, subject to the FTZ Act and the FTZ Board's regulations, including Section 400.14.

Dated: December 22, 2021.
Andrew McGilvray,
Executive Secretary.

[FR Doc. 2021-28174 Filed 12-27-21; 8:45 am]

BILLING CODE 3510-DS-P